DEPARTMENT OF COMMERCE

National Oceanic and Atmospheric Administration

50 CFR Part 622

[Docket No. 051003254-5254-01; I.D. 092105C]

RIN 0648-AT88

Fisheries of the Caribbean, Gulf of Mexico, and South Atlantic; Snapper-Grouper Fishery Off the Southern Atlantic States; Control Date

AGENCY: National Marine Fisheries Service (NMFS), National Oceanic and Atmospheric Administration (NOAA), Commerce.

ACTION: Advance notice of proposed rulemaking; consideration of a control date.

SUMMARY: This notice announces that the South Atlantic Fishery Management Council (Council) is considering management measures to further limit participation or effort in the commercial fishery for snapper grouper species (excluding wreckfish) in the exclusive economic zone (EEZ) of the South Atlantic. Possible measures include individual fishing quotas (IFQ), days-at-sea (DAS), or other programs to further limit participation or effort. If such measures are established, the Council is considering October 14, 2005 as a possible control date.

FOR FURTHER INFORMATION CONTACT: Julie A. Weeder, 727-551-5753; fax 727-824-5308; e-mail julie.weeder@noaa.gov.

SUPPLEMENTARY INFORMATION: The snapper grouper fishery in the EEZ off the southern Atlantic states is managed under the Fishery Management Plan for the Snapper-Grouper Fishery of the South Atlantic Region (FMP). The FMP was prepared by the Council and is implemented through regulations at 50 CFR part 622 under the authority of the Magnuson-Stevens Fishery Conservation and Management Act.

The Council previously established July 30, 1991 (56 FR 36052), as the control date for the snapper grouper fishery (excluding wreckfish), and April 23, 1997 (62 FR 22995), as the control date for the black sea bass pot segment of this fishery. If adopted, the proposed control date of October 14, 2005 would replace both of those control dates for the entire fishery (excluding wreckfish).

Many species in the South Atlantic snapper grouper fishery are or have been overfished or are undergoing overfishing. A limited access program for the commercial fishery was instituted in Amendment 8 to the FMP in 1998. Implementation of a program that further limits effort or participation in the commercial fishery for snapper grouper species (excluding wreckfish) in the EEZ would require preparation of an amendment to the FMP by the Council and publication of a proposed rule with a public comment period. NMFS' approval of the amendment and issuance of a final rule would also be required.

As the Council considers these management options, some fishermen who do not currently harvest snapper grouper, or harvest small quantities, may decide to begin or increase participation for the sole purpose of establishing or improving their record of commercial landings. When management authorities begin to consider implementation or expansion of a limited access management regime, this kind of speculative behavior is often responsible for a rapid increase in fishing effort in fisheries that are already fully developed or over developed. The original fishery problems, such as overcapitalization or overfishing, may be exacerbated by this increased participation.

In order to avoid this problem, if management measures to limit participation or effort in the fishery are determined to be necessary, the Council is considering October 14, 2005 as the control date. After that date, anyone entering the commercial fishery for snapper grouper species (excluding wreckfish) may not be assured of future participation in the fishery if a management regime is developed and implemented that limits the number of fishery participants.

Consideration of a control date does not commit the Council or NMFS to any particular management regime or criteria for entry into the commercial fishery for snapper grouper species (excluding wreckfish). Fishermen are not guaranteed future participation in this fishery, regardless of their entry date or intensity of participation in the fishery before or after the control date under consideration. The Council may subsequently choose a different control date, or it may choose a management regime that does not make use of such a date. The Council also may choose to take no further action to control entry or access to the fishery, in which case the control date may be rescinded.

Authority: 16 U.S.C. 1801 et seq.

Dated: October 7, 2005.
James W. Balsiger,
Acting Deputy Assistant Administrator for Regulatory Programs, National Marine Fisheries Service.

[FR Doc. 05-20612 Filed 10-13-05; 8:45 am]

BILLING CODE 3510-22-S